DEPARTMENT OF ENERGY

Bonneville Power Administration

Regional Transmission Organization West

AGENCY: Bonneville Power Administration (BPA), Department of Energy (DOE).

ACTION: Notice of meetings.

SUMMARY: This notice announces BPA's intention to hold two public meetings to consider issues associated with BPA's proposal to join the Northwest Regional Transmission Organization (RTO West).

DATES: As part of the public process associated with the formation of the RTO, BPA has established a public comment period. Written comments are due to the address below no later than September 8, 2000. In addition, BPA will host two public meetings: the first in Spokane, Washington, on August 22, 2000, and the second in Portland, Oregon, on August 25, 2000. Comments may also be made at these public meetings.

ADDRESSES: BPA invites comments and suggestions on the major issues associated with BPA's proposal to join RTO West. Send comment letters to Communications, Bonneville Power Administration—KC-7, P.O. Box 12999, Portland, Oregon, 97212. The phone number of the Communications office is 503-230-3478 in Portland; toll-free 1-800-622-4519 outside of Portland. Comments may also be sent to the BPA Internet address: comment@bpa.gov.

The meetings will be held at the Ramada Inn, Spokane International Airport, Spokane, Washington, on Tuesday, August 22, 2000, from 1:00 p.m. to 5:00 p.m., and at the Sheraton Portland Airport Hotel, Columbian Room, 8235 NE Airport Way, Portland, Oregon, from 1:00 p.m. to 4:00 p.m.

FOR FURTHER INFORMATION, CONTACT: Mike Hansen—KC-7, Bonneville Power Administration, P.O. Box 3621, Portland, Oregon, 97208-3621, phone number 503-230-4328, fax number 503-230-5844. Additional information is also available on the official RTO West web site at www.rtowest.com, or BPA's web site at www.bpa.gov.

SUPPLEMENTARY INFORMATION: In December 1999, the Federal Energy Regulatory Commission (FERC) issued Order 2000, which encourages the formation of RTOs. The goal of that order is to promote efficiency in the wholesale electricity marketplace and to ensure that consumers pay the lowest price possible for reliable service. The order also requires utilities to file RTO proposals with FERC by October 15, 2000, with the RTOs to be fully operating by December 15, 2001.

FERC encouraged the federal power marketing administrations (PMAs), including BPA, to participate in RTO development. In response, on May 16, 2000, the U.S. Department of Energy directed the PMAs to participate in the development of RTOs and to file with FERC by the October 15 deadline. BPA began working collaboratively with Avista, Idaho Power Company, Montana Power Company, Nevada Power Company, PacifiCorp, Portland General Electric Company, Puget Sound Energy, Inc., and Sierra Pacific Power Company to form an RTO. These Filing Utilities have reached consensus on the structure of RTO West, developed a set of RTO principles, established an RTO Collaborative Process Plan, and clarified roles, responsibilities, and process related to the formation of RTO West. The Collaborative Process Plan committed RTO West to host Regional Workshops to encourage broader participation in the development of RTO West and to receive input on issues associated with RTO West formation.

Interested regional parties are included in the RTO West Regional Representatives Group (RRG), which is charged with reviewing and discussing issues and recommending approaches to the successful formation of an RTO in the Northwest. In addition, the several technical workgroups, working in conjunction with the RRG, are developing papers that will be shared with the region in August. The papers will also be available on the RTO web site at www.rtowest.com.

BPA, as a Federal agency, has responsibilities under the National Environmental Policy Act (NEPA). Environmental information must be available to decisionmakers and to the public before decisions are made and before actions are taken. In response to a need for a sound policy to guide its business direction under changing market conditions, BPA prepared the Business Plan Environmental Impact Statement (Business Plan EIS, DOE/EIS-0183, June 1995). In the subsequent Business Plan Record of Decision (Business Plan ROD), issued August 15, 1995, the BPA Administrator selected the Market-Driven alternative.

The Business Plan EIS was intended to support a number of business decisions, including transmission system development and operation. The Business Plan EIS and ROD also documented a NEPA strategy for tiering subsequent business decisions. Consistent with that strategy, BPA will review the EIS to determine whether the environmental impacts associated with participation in an RTO-like organization are adequately analyzed. After incorporating information received during the public process associated with RTO West, BPA intends to prepare a ROD tiered to the Business Plan ROD, explaining any decision to join the RTO. The RTO West ROD will provide a summary of potential environmental impacts with reference to the appropriate discussions in the Business Plan EIS.

The comment period and the two public meetings are an integral part of BPA's decisionmaking process for whether or not to join the RTO. The Spokane public meeting will also incorporate an RTO West briefing as part of the RTO's commitment to host regional workshops.

Issued in Portland, Oregon, on August 8, 2000.
J.A. Johansen,
Administrator and Chief Executive Officer.

[FR Doc. 00-20786 Filed 8-15-00; 8:45 am]

BILLING CODE 6450-01-U